FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements (202)-523-5793 or tradeanalysis@fmc.gov).

Agreement No.: 011960-002.

Title: The New World Alliance Agreement.

Parties: American President Lines, Ltd.; APL Co. Pte, Ltd.; Hyundai Merchant Marine Co., Ltd.; and Mitsui O.S.K. Lines, Ltd.(”MOL”).

Filing Party: Robert B. Yoshitomi, Esq.; Nixon Peabody LLP; Gas Company Tower; 555 West Fifth Street 46th Floor; Los Angeles, CA 90013.

Synopsis: The amendment would authorize MOL to subchapter space to the Evergreen Line Joint Service Agreement in trades between the Far East and the U.S. West and East Coasts.

Agreement No.: 012043.

Title: MOL / APL / HMM Japan / USWC Slot Charter Agreement.

Parties: American President Lines, Ltd.; APL Co. Pte. Ltd.; and Mitsui O.S.K. Lines, Ltd.

Filing Party: Robert B. Yoshitomi, Esq.; Nixon Peabody, LLP; Gas Company Tower; 555 West Fifth St., 46th Floor; Los Angeles, CA 90013.

Synopsis: The agreement authorizes the parties to exchange slots in the trade between U.S. West Coast and Japan.

Agreement No.: 201181.

Title: Marine Terminal Services Agreement between Port of Houston Authority (“PHA”) and Evergreen Shipping Agency (America) Corporation.

Parties: Port of Houston Authority and Evergreen Shipping Agency (America) Corporation.

Filing Party: Erik A. Eriksson, Esq.; General Counsel; Port of Houston Authority; 111 East Loop North; Houston, TX 77029.

Synopsis: The agreement authorizes PHA to establish discounted rates and charges for Evergreen's container vessels calling at the port.

Agreement No.: 201182.

Title: Marine Terminal Services Agreement between Port of Houston Authority (“PHA”) and OOCL (USA) Inc.

Parties: Port of Houston Authority and OOCL (USA) Inc.

Filing Party: Erik A. Eriksson, Esq.; General Counsel; Port of Houston Authority; 111 East Loop North; Houston, TX 77029.

Synopsis: The agreement authorizes PHA to establish discounted rates and charges for OOCL's container vessels calling at the port.

Agreement No.: 201183.

Title: Marine Terminal Services Agreement between Port of Houston Authority (“PHA”) and Hamburg Sud.

Parties: Port of Houston Authority and Hamburg Sud.

Filing Party: Erik A. Eriksson, Esq.; General Counsel; Port of Houston Authority; 111 East Loop North; Houston, TX 77029.

Synopsis: The agreement authorizes PHA to establish discounted rates and charges for Hamburg Sud's container vessels calling at the port.

Agreement No.: 201184.

Title: Marine Terminal Services Agreement between Port of Houston Authority (“PHA”) and Mediterranean Shipping Co. S.A.

Parties: Port of Houston Authority and Mediterranean Shipping Co. S.A.

Filing Party: Erik A. Eriksson, Esq.; General Counsel; Port of Houston Authority; 111 East Loop North; Houston, TX 77029.

Synopsis: The agreement authorizes PHA to establish discounted rates and charges for Mediterranean Shipping's container vessels calling at the port.

Agreement No.: 201185.

Title: Marine Terminal Services Agreement between Port of Houston Authority (“PHA”) and Zim American Integrated Shipping Services Co., Inc.

Parties: Port of Houston Authority and Zim American Integrated Shipping Services Co., Inc.

Filing Party: Erik A. Eriksson, Esq.; General Counsel; Port of Houston Authority; 111 East Loop North; Houston, TX 77029.

Synopsis: The agreement authorizes PHA to establish discounted rates and charges for Zim's container vessels calling at the port.

Dated: May 16, 2008.
By Order of the Federal Maritime Commission.
Karen V. Gregory,
Assistant Secretary.

[FR Doc. E8-11392 Filed 5-20-08; 8:45 am]

BILLING CODE 6730-01-P